DEPARTMENT OF COMMERCE

Bureau of Industry and Security

15 CFR Part 744

[Docket No. 121009527-2527-01]

RIN 0694-AF80

Addition of Certain Persons to the Entity List

Correction

In rule document 2012-28919 appearing on pages 71097-71099 in the issue of Thursday, November 29, 2012, make the following changes:

PART 744—[CORRECTED]

1. On page 71099, in the table “Supplement No. 4 to Part 744—Entity List”, in the fifth column, in the fourth row, “77 FR [INSERT FR PAGE NUMBER] 11/30/12.” should read, “77 FR [INSERT FR PAGE NUMBER] 11/29/12.”

2. On the same page, in the same table, in the same column, in the sixth row, “77 FR [INSERT FR PAGE NUMBER] 11/30/12.” should read, “77 FR [INSERT FR PAGE NUMBER] 11/29/12.”

3. On the same page, in the same table, in the same column, in the tenth row, “77 FR [INSERT FR PAGE NUMBER] 11/30/12.” should read, “77 FR [INSERT FR PAGE NUMBER] 11/29/12.”

[FR Doc. C1-2012-28919 Filed 12-6-12; 8:45 am]

BILLING CODE 1505-01-D